DEPARTMENT OF DEFENSE

Department of the Navy

Notice of Public Hearings for the U.S. Marine Corps Grow the Force at Marine Corps Base (MCB) Camp Lejeune, Marine Corps Air Station (MCAS) New River, and MCAS Cherry Point, North Carolina Draft Environmental Impact Statement

AGENCY: Department of the Navy, DoD.

ACTION: Notice.

SUMMARY: Pursuant to Section (102)(2)(c) of the National Environmental Policy Act of 1969 (NEPA) (42 United States Code [U.S.C.] 4321); the Council on Environmental Quality (CEQ) regulations for implementing the procedural provisions of NEPA (Title 40 Code of Federal Regulations [CFR] Parts 1500-1508); Department of Navy Procedures for Implementing NEPA (32 CFR Part 775); and Marine Corps NEPA directives (Marine Corps Order P5090.2A), the Marine Corps has prepared and filed with the U.S. Environmental Protection Agency (EPA) a Draft Environmental Impact Statement (EIS) which evaluates the potential environmental consequences that may result from implementing the Grow the Force initiative in North Carolina in accordance with the President's mandate and Congressional direction to increase end strength across the Marine Corps war-fighting organizations by the end of Fiscal Year 2011 (FY11). The U.S. Army Corps of Engineers, Wilmington district, is a cooperating agency for the EIS. A Notice of Intent for this EIS was published in the Federal Register on December 14, 2007 (Vol. 72, No. 240, p. 71128).

The Marine Corps will conduct three public hearings to receive oral and written comments on the Draft EIS. Federal, State, and local agencies and interested individuals are invited to be present or represented at the public hearing meetings. This notice announces the dates and locations of the public hearings for this Draft EIS; supplementary information about the environmental planning effort is also included in this notice.

DATES: An open house session will precede the public hearing at each of the locations listed below. Individuals will be allowed to review the information presented in the Draft EIS and Marine Corps representatives will be available during the open house sessions to clarify information related to the Draft EIS. For all meetings the open house will be held from 5 p.m. to 8 p.m., and the public hearing will be held from 6:30 p.m. to 8 p.m. Public hearings will be held on the following dates and at the following locations in North Carolina:

(1) Tuesday, August 18, 2009, Havelock Tourist and Event Center, 201 Tourist Center Drive, Havelock, NC.

(2) Wednesday, August 19, 2009, Jacksonville High School, Auditorium, 1021 Henderson Drive, Jacksonville, NC.

(3) Thursday, August 20, 2009, Holly Ridge Community Center, 404 Sound Road, Holly Ridge, NC.

The Draft EIS was distributed to Federal, State, and local agencies, elected officials, and other interested parties and organizations on July 17, 2009. The public comment period will end on September 1, 2009. Copies of the Draft EIS are available for public review at the following libraries: Onslow County Public Library, 58 Doris Ave. East, Jacksonville, NC 28540; Richlands Branch Library, 299 S. Wilmington St., Richlands, NC 28574; Sneads Ferry Branch Library, 242 Sneads Ferry Rd., Sneads Ferry, NC 28460; Law Library Branch, 109 Old Bridge St., Jacksonville, NC 28540; and Havelock-Craven County Public Library, 301 Cunningham Boulevard, Havelock, NC 28532. The Draft EIS is also available for electronic public viewing at: http://www.GrowTheForceNC.com.

A paper copy of the Draft EIS will be made available upon written request by contacting Naval Facilities Engineering Command Mid-Atlantic, Marine Corps Grow the Force in NC, EIS Project Manager, 6506 Hampton Boulevard, Norfolk, VA 23508.

Comments: Federal, State, and local agencies and interested parties are invited to be present or be represented at the public hearings. Written comments can be submitted during the open house sessions preceding the public hearings.

Oral statements will be heard and transcribed by a stenographer; however, to ensure the accuracy of the record, all statements should be submitted in writing. All statements, both oral and written, will become part of the public record on the Draft EIS and will be responded to in the Final EIS. Equal weight will be given to both oral and written statements. In the interest of available time, and to ensure all who wish to give an oral statement have the opportunity to do so, each speaker's comments will be limited to three (3) minutes. If a long statement is to be presented, it should be summarized at the public hearing with the full text submitted in writing at the hearing, or mailed to Naval Facilities Engineering Command Mid-Atlantic, Marine Corps Grow the Force in NC, EIS Project Manager, 6506 Hampton Boulevard, Norfolk, VA 23508. In addition, comments may be submitted on-line at http://www.GrowTheForceNC.com during the 45-day comment period. All written comments must be postmarked by September 8, 2009, to ensure they become part of the official record. All comments will be addressed in the Final EIS.

FOR FURTHER INFORMATION CONTACT: Mr. Michael H. Jones, telephone: (757) 322-4942. Please submit requests for special assistance, sign language interpretation for the hearing impaired or other auxiliary aids at the public meetings to Mr. Jones by August 4, 2009.

SUPPLEMENTARY INFORMATION: The proposed action and subject of the Draft EIS covers the permanent, incremental increase of active duty and civilian personnel and their dependents at three North Carolina Marine Corps Installations: MCB Camp Lejeune, MCAS New River, and MCAS Cherry Point. The increase in personnel is part of a nationwide Presidential mandate for the Marine Corps to grow its force size from 186,000 to 202,000 Marines by the end of FY11. Three action alternatives and a No Action Alternative were carried forward for analysis in the Draft EIS.

The No Action Alternative (Alternative 1) was examined in the Draft EIS. Under this alternative, the permanent, incremental increase of Marine Corps personnel at North Carolina Installations would not occur. This alternative is included to provide a baseline from which to gauge potential impacts of the action alternatives, even though it would not meet the purpose and need to permanently increase Marine Corps personnel at North Carolina bases. In addition, it is incompatible with the President's mandate to increase Marine Corps personnel.

The Preferred Alternative (Alternative 2) includes the addition of approximately 7,700 personnel at MCB Camp Lejeune, 1,400 at MCAS New River, and close to 800 at MCAS Cherry Point (total of 9,900 active duty and civilian personnel), as well as approximately 9,450 dependents.

To support this growth, a multi-year, major construction effort would occur at all three installations. Proposed infrastructure development at each installation (at least to some extent) includes: Constructing administrative, educational, training, maintenance, and operations facilities; providing living accommodations (housing, lodging, and mess halls); building Morale, Welfare, and Recreation facilities (fitness centers, medical/dental clinics, child development centers); demolishing existing buildings and infrastructure; and constructing and/or upgrading infrastructure (e.g., roads, power, and communications). Proposed development would result in approximately 1,700 acres of disturbance at MCB Camp Lejeune, 160 acres at MCAS New River, and 117 acres at MCAS Cherry Point.

Under Alternative 3 the same permanent increase of Marines and dependents would occur at the three North Carolina Installations as described for the Preferred Alternative; however, a reduced construction effort would be implemented. This alternative meets the purpose and need to establish the Marine Corps personnel increases on a permanent basis; however, once deployments are curtailed and Marines return to their home stations from abroad, infrastructure capacity to support all the Marines would be considerably strained at the three Installations. Under this alternative proposed development would result in approximately 360 acres of disturbance at MCB Camp Lejeune, 90 acres at MCAS New River, and 40 acres at MCAS Cherry Point.

Under Alternative 4, the same permanent increase of Marines and dependents would occur at the three Installations as described in the Preferred Alternative; however, no construction projects or infrastructure development would occur. The increased personnel would be accommodated in existing facilities or temporary/relocatable buildings already in place. The purpose and need for the Proposed Action would be met; however, by not implementing any construction projects or upgrades, infrastructure capacity to support all the Marines would be considerably strained at all three Installations.

Environmental resources addressed in the Draft EIS include land use and coastal zone management; socioeconomics; recreation and visual resources; community services and facilities; transportation and traffic; utilities and infrastructure; hazardous materials, toxic substances, and hazardous waste; noise; air quality; natural resources, including threatened and endangered species; earth resources (e.g., soils and geology); water resources (e.g., surface waters and wetlands); and cultural resources. The Draft EIS also accounts for cumulative impacts from other past, present, and reasonably foreseeable future actions in the Jacksonville and Havelock, North Carolina regional area.

The Draft EIS analyses indicate that the proposed personnel increases would substantially increase the population residing on the three Marine Corps installations, as well as the population within the surrounding communities of Onslow, Craven, and Carteret counties. Onslow and Craven counties are anticipated to receive 95 percent of the growth directly associated with the proposed action. The influx of personnel would have direct impacts (but not at a magnitude to introduce major adverse effects) to socioeconomics, community services (specifically schools in Onslow County), utilities, and local traffic. The Preferred Alternative would, however, introduce positive input into the local economy from economic gains associated with military salaries and taxes (long-term gain) and major construction efforts (short-term gain).

The proposed construction and demolition would have adverse impacts to cultural resources at MCB Camp Lejeune (demolition of three historic buildings). Mitigation measures will be developed in consultation with the North Carolina State Historic Preservation Officer. Proposed construction also has the potential to impact wetlands at all three installations. However, these impacts are not anticipated to be significant due to the best management practices utilized by the Marine Corps.

Schedule: A Notice of Availability (NOA) of the Draft EIS will be published both in the Federal Register and local print media, which starts the 45-day public comment period for the Draft EIS. The Marine Corps will consider and respond to all comments received on the Draft EIS when preparing the Final EIS. The Department of the Navy intends to issue the Final EIS no later than December 2009, at which time a NOA will be published in the Federal Register and local media. A Record of Decision will be issued no sooner than 30 days following publication of the Final EIS.

Dated: July 14, 2009.
A.M. Vallandingham,
Lieutenant Commander, Judge Advocate General's Corps, U.S. Navy, Federal Register Liaison Officer.

[FR Doc. E9-17180 Filed 7-17-09; 8:45 am]

BILLING CODE 3810-FF-P